ENVIRONMENTAL PROTECTION AGENCY

[FRL 6567-4]

Proposed Administrative Agreement and Covenant Not to Sue Under Section 122(h) of CERCLA for the Lawton Property Superfund Site

AGENCY: U.S. Environmental Protection Agency (USEPA).

ACTION: Proposal of Administrative Agreement and Covenant Not to Sue Under Section 122(h) of CERCLA with Hoskins for the Lawton Property Superfund Site.

SUMMARY: In accordance with the Comprehensive Environmental Response, Compensation, and Liability Act of 1980 (“CERCLA”), as amended, 42 U.S.C. 9601 et seq., notice is hereby given that a proposed Administrative Agreement and Covenant Not to Sue Under Section 122(h) of CERCLA (“Agreement”), 42 U.S.C. 9622(h), for the Lawton Property Superfund Site located in Detroit, Michigan, has been executed by the Settling Party, Hoskins Manufacturing Company, Inc. (“Hoskins”). The proposed Agreement would resolve certain potential claims of the United States under Section 107 of CERCLA, 42 U.S.C. 9607, against Hoskins. The proposed Agreement would require Hoskins to pay the EPA Hazardous Substance Superfund $27,000 for reimbursement of response costs. No further U.S. EPA response actions are contemplated at this time.

DATES: Comments on the proposed Agreement must be received by U.S. EPA on or before May 17, 2000.

ADDRESSES: A copy of the proposed Agreement is available for review at U.S. EPA, Region 5, 77 West Jackson Boulevard, Chicago, Illinois 60604. Please contact Ms. Orelia E. Merchant at (312) 886-2241, prior to visiting the Region 5 office.

Comments on the proposed Agreement should be addressed to Orelia E. Merchant, Office of Regional Counsel, U.S. EPA, Region 5, 77 West Jackson Boulevard (Mail Code C-14J), Chicago, Illinois 60604.

FOR FURTHER INFORMATION CONTACT: Orelia E. Merchant at (312) 886-2241, of the U.S. EPA, Region 5 Office of Regional Counsel.

A 30-day period, commencing on the date of publication of this notice, is open for comments on the proposed Agreement pursuant to section 122(i) of CERCLA, 42 U.S.C. 9622(i). Comments should be sent to the address identified in this document.

Richard C. Karl,
Acting Director, Superfund Division, Region 5.

[FR Doc. 00-9539 Filed 4-14-00; 8:45 am]

BILLING CODE 6560-50-M